FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/Address | Date reissued
019355N | ABAD Air, Inc., 14011 NW. 28th Street, Miami, FL 33172 | July 2, 2008.
020384N | AOL Solutions, Inc. dba AOL Freight Solutions, 1836 Center Park Drive, Charlotte, NC 28217 | May 10, 2008.
004659F | Baron Worldwide, Inc., 5554 S. Prince Street, Ste. 102, Littleton, CO 80120 | March 28, 2008.
021396N | Bright Star Logistics, Inc., 11205 S. La Cienega Blvd., Los Angeles, CA 90045 | May 7, 2008.
018394N | Perfect Logistics, Inc., 370 Amapola Avenue, Ste. 207, Torrance, CA 90501 | July 10, 2008.
020579N | Project Freight Transportation, Inc., 623 Staffordshire Drive East, Jacksonville, FL 32225 | July 12, 2008.
002328F | Ross Freight Company, Inc., 26302 South Western Ave., Suite 7, Lomita, CA 90717 | May 30, 2008.
004267F | Senrac Transportation Services, Ltd., 15201 East Freeway, Suite 113, Channelview, TX 77530 | July 14, 2008.
019299N | Trans Atlantic Shipping, Inc. dba TAS, Inc., 1005 West Arbor Vitae Street, Inglewood, CA 90301 | May 4, 2008.
020486NF | Transportation Freight Group, LLC, 6025 Sandy Springs Circle, #244, Atlanta, GA 30328 | July 15, 2008.
019878NF | Unity Logistics and Transportation, Inc., 600 Bayview Avenue, Inwood, NY 11096 | June 16, 2008.

Sandra L. Kusumoto,
Director, Bureau of Certification and Licensing.

[FR Doc. E8-18763 Filed 8-12-08; 8:45 am]

BILLING CODE 6730-01-P